DEPARTMENT OF ENERGY

Federal Energy Regulatory Commission

Combined Notice of Filings #1

Take notice that the Commission received the following electric rate filings:

Docket Numbers: ER24-181-000.

Applicants: Frankland Road Solar, LLC.

Description: Supplement to October 23, 2023 Frankland Road Solar, LLC tariff filing.

Filed Date: 12/15/23.

Accession Number: 20231215-5230.

Comment Date: 5 p.m. ET 12/26/23.

Docket Numbers: ER24-706-000.

Applicants: Northern Orchard Solar PV, LLC.

Description: Baseline eTariff Filing: Market Based Rate to be effective 12/19/2023.

Filed Date: 12/19/23.

Accession Number: 20231219-5223.

Comment Date: 5 p.m. ET 1/9/24.

Docket Numbers: ER24-707-000.

Applicants: Quartz Solar, LLC.

Description: Baseline eTariff Filing: Market Based Rate to be effective 2/19/2024.

Filed Date: 12/20/23.

Accession Number: 20231220-5000.

Comment Date: 5 p.m. ET 1/10/24.

Docket Numbers: ER24-708-000.

Applicants: Transource Oklahoma, LLC, Southwest Power Pool, Inc.

Description: Compliance filing: Transource Oklahoma, LLC submits tariff filing per 35: AEP on behalf of affilate Transource Oklahoma Order 864 Compliance Filing to be effective 2/20/2024.

Filed Date: 12/20/23.

Accession Number: 20231220-5069.

Comment Date: 5 p.m. ET 1/10/24.

Docket Numbers: ER24-709-000.

Applicants: Duke Energy Carolinas, LLC.

Description: § 205(d) Rate Filing: Joint OATT Ministerial Clean-up Filing (2023) to be effective 11/17/2021.

Filed Date: 12/20/23.

Accession Number: 20231220-5115.

Comment Date: 5 p.m. ET 1/10/24.

Docket Numbers: ER24-710-000.

Applicants: New York Independent System Operator, Inc.

Description: § 205(d) Rate Filing: NYISO 205: NYISO Ravenswood Fuel Oil Implementation Agreement, SA2827 to be effective 1/1/2024.

Filed Date: 12/20/23.

Accession Number: 20231220-5117.

Comment Date: 5 p.m. ET 1/10/24.

Docket Numbers: ER24-711-000.

Applicants: Valley Electric Association, Inc.

Description: § 205(d) Rate Filing: Annual TRBAA Filing for 2024 to be effective 1/1/2024.

Filed Date: 12/20/23.

Accession Number: 20231220-5145.

Comment Date: 5 p.m. ET 1/10/24.

Docket Numbers: ER24-712-000.

Applicants: PJM Interconnection, L.L.C.

Description: § 205(d) Rate Filing: Amendment to ISA, Service Agreement No. 5979; Queue No. AD2-085/AE2-247/AF1-017 to be effective 2/19/2024.

Filed Date: 12/20/23.

Accession Number: 20231220-5161.

Comment Date: 5 p.m. ET 1/10/24.

Docket Numbers: ER24-713-000.

Applicants: Alabama Power Company, Georgia Power Company, Mississippi Power Company.

Description: § 205(d) Rate Filing: Alabama Power Company submits tariff filing per 35.13(a)(2)(iii: Pinewood Solar LGIA Filing to be effective 12/9/2023.

Filed Date: 12/20/23.

Accession Number: 20231220-5166.

Comment Date: 5 p.m. ET 1/10/24.

Docket Numbers: ER24-714-000.

Applicants: Alabama Power Company, Georgia Power Company, Mississippi Power Company.

Description: § 205(d) Rate Filing: Alabama Power Company submits tariff filing per 35.13(a)(2)(iii: Zurisol (Rockdale Storage) LGIA Filing to be effective 12/8/2023.

Filed Date: 12/20/23.

Accession Number: 20231220-5167.

Comment Date: 5 p.m. ET 1/10/24.

Docket Numbers: ER24-715-000.

Applicants: Midcontinent Independent System Operator, Inc.

Description: § 205(d) Rate Filing: 2023-12-20_SA 4218 Union Electric-Grain Belt TCA (H104 H105) to be effective 2/19/2024.

Filed Date: 12/20/23.

Accession Number: 20231220-5202.

Comment Date: 5 p.m. ET 1/10/24.

Docket Numbers: ER24-716-000.

Applicants: PJM Interconnection, L.L.C.

Description: § 205(d) Rate Filing: Amendment to ISA, Service Agreement No. 6232; Queue No. AE1-071 to be effective 2/19/2024.

Filed Date: 12/20/23.

Accession Number: 20231220-5207.

Comment Date: 5 p.m. ET 1/10/24.

Docket Numbers: ER24-717-000.

Applicants: PJM Interconnection, L.L.C.

Description: § 205(d) Rate Filing: Amendment to ISA, Service Agreement No. 6220; Queue No. AB2-037 to be effective 2/19/2024.

Filed Date: 12/20/23.

Accession Number: 20231220-5238.

Comment Date: 5 p.m. ET 1/10/24.

Docket Numbers: ER24-718-000.

Applicants: Oklahoma Gas and Electric Company.

Description: § 205(d) Rate Filing: Normal filing 2023 Dec to be effective 11/12/2010.

Filed Date: 12/20/23.

Accession Number: 20231220-5245.

Comment Date: 5 p.m. ET 1/10/24.pm

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 20, 2023.
Kimberly D. Bose,
Secretary.

[FR Doc. 2023-28544 Filed 12-26-23; 8:45 am]

BILLING CODE 6717-01-P